FEDERAL COMMUNICATIONS COMMISSION

[AU Docket No. 10-107; DA 10-1630]

Wireless Telecommunications Bureau Postpones Auction of 218-219 MHz Service and Phase II 220 MHz Service Licenses (Auction 89)

AGENCY: Federal Communications Commission.

ACTION: Notice.

SUMMARY: This document announces the postponement of Auction 89.

FOR FURTHER INFORMATION CONTACT: Wireless Telecommunications Bureau, Auctions and Spectrum Access Division: Sayuri Rajapakse or Lisa Stover at (202) 418-0660.

SUPPLEMENTARY INFORMATION: This is a summary of the Auction 89 Postponement Public Notice, which was released on August 26, 2010. The complete text of the Auction 89 Postponement Public Notice and related Commission documents are available for public inspection and copying from 8 a.m. to 4:30 p.m. ET Monday through Thursday and from 8 a.m. to 11:30 a.m. ET on Fridays in the FCC Reference Information Center, 445 12th Street, SW., Room CY-A257, Washington, DC 20554. The Auction 89 Postponement Public Notice and related Commission documents may also be purchased from the Commission's duplicating contractor, Best Copy and Printing, Inc. (BCPI), Portals II, 445 12th Street, SW., Room CY-B402, Washington, DC 20554, telephone 202-488-5300, facsimile 202-488-5563, or Web site: http://www.BCPIWEB.com, using document number DA 10-1630 for the Auction 89 Postponement Public Notice. The Auction 89 Postponement Public Notice and related documents are also available on the Internet at the Commission's Web site: http://wireless.fcc.gov/auctions/89/.

1. The auction of 218-219 MHz Service and Phase II 220 MHz Service licenses (Auction 89) previously scheduled to begin December 7, 2010, is postponed until further notice to provide more time for bidder preparation and planning. A subsequent public notice will be released announcing a new starting date and other relevant dates for Auction 89.

2. Interested parties may keep apprised of the FCC's schedule for this auction through the Auction 89 Web site at http://wireless.fcc.gov/auctions/89/.

3. This action is taken by the Chief, Wireless Telecommunications Bureau pursuant to authority delegated by 47 CFR 0.131.

Federal Communications Commission.
Gary D. Michaels,
Deputy Chief, Auctions and Spectrum Access Division, WTB.

[FR Doc. 2010-23164 Filed 9-15-10; 8:45 am]

BILLING CODE 6712-01-P